NUCLEAR REGULATORY COMMISSION

[NRC-2013-0042]

U.S. Nuclear Regulatory Commission Planned Monitoring Activities for F-Area Tank Farm at the Savannah River Site, Revision 0

AGENCY: Nuclear Regulatory Commission.

ACTION: Document issuance.

SUMMARY: The U.S. Nuclear Regulatory Commission (NRC) is announcing the availability of “U.S. Nuclear Regulatory Commission Plan for Monitoring Disposal Actions Taken by the U.S. Department of Energy at the Savannah River Site F-Area Tank Farm Facility in Accordance with the National Defense Authorization Act for Fiscal Year 2005, (NDAA)” Revision 0, dated January 2013.

ADDRESSES: Please refer to Docket ID NRC-2013-0042 when contacting the NRC about availability of information regarding this document. You may access information related to this document, which the NRC possesses and are publicly available, by using any of the following methods:

• Federal Rulemaking Web site: Go to http://www.regulations.gov and search for Docket ID NRC-2013-0042. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC Public Document Room (PDR) reference staff at 1-800-397-4209, 301-415-4737, or by email to PDR.Resource@nrc.gov. The ADAMS accession number for the document is ML12212A192. The ADAMS Accession Number for the letter sending the document to the U.S. Department of Energy (DOE) is ML12345A318.

• NRC's Public Document Room (PDR): You may examine and purchase copies of public documents at the NRC's PDR, Room O1-F21, One White Flint North, 11555 Rockville Pike, Rockville, Maryland 20852.

FOR FURTHER INFORMATION CONTACT: Harry Felsher, Office of Federal and State Materials and Environmental Management Programs, U.S. Nuclear Regulatory Commission, Washington, DC 20555-0001; telephone: 301-415-6559; and email: Harry.Felsher@nrc.gov.

SUPPLEMENTARY INFORMATION: The document describes the NRC staff's planned activities in carrying out its responsibilities for monitoring DOE's waste disposal activities at the F-Area Tank Farm at the Savannah River Site, in accordance with the NDAA for Fiscal Year 2005. The NRC staff developed a Technical Evaluation Report (TER) for the F-Area Tank Farm Facility in October 2011, as part of the NRC consultation with DOE in its waste determination. In the TER, the NRC staff identified specific recommendations that if implemented by DOE, NRC staff believed would enhance DOE's demonstration of compliance with the performance objectives in 10 CFR Part 61, Subpart C. In the issued document, the NRC staff identified specific areas associated with those recommendations, as well as other areas, that it intends to monitor in assessing DOE's compliance with the performance objectives. The document describes what the NRC staff intends to do in each of those areas, as well as other activities that will be performed to allow a complete assessment of compliance with the performance objectives. In finalizing the document, the NRC staff considered comments and input from the State of South Carolina.

Dated at Rockville, Maryland, this 21st day of February 2013.
For the U.S. Nuclear Regulatory Commission.
Aby S. Mohseni,
Deputy Director, Environmental Protection and Performance Assessment Directorate, Division of Waste Management and Environmental Protection, Office of Federal and State Materials and Environmental Management Programs.

[FR Doc. 2013-04668 Filed 2-27-13; 8:45 am]

BILLING CODE 7590-01-P